DEPARTMENT OF COMMERCE

International Trade Administration

[A-475-601]

Brass Sheet and Strip From Italy: Rescission of Antidumping Duty Review; 2012-2013

AGENCY: Import Administration, International Trade Administration, Department of Commerce.

SUMMARY: The Department of Commerce (Department) is rescinding the administrative review of the antidumping duty order on brass sheet and strip from Italy for the period March 1, 2012, through February 28, 2013.

DATES: Effective Date: August 22, 2013.

FOR FURTHER INFORMATION CONTACT: Joseph Shuler, AD/CVD Operations, Office 1, Import Administration, U.S. Department of Commerce, 14th Street and Constitution Avenue NW., Washington, DC 20230; telephone: (202) 482-1293.

SUPPLEMENTARY INFORMATION:

Background

On May 1, 2013, the Department initiated an administrative review of the antidumping duty order on brass sheet and strip from Italy for the period March 1, 2012, through February 28, 2013,¹ based on a request by Petitioners for a review of KME Italy SpA.² Petitioners withdrew their request for an administrative review on July 30, 2013.

¹ See Initiation of Antidumping and Countervailing Duty Administrative Reviews and Request for Revocation in Part, 78 FR 25418, 25420 (May 1, 2013).

² Petitioners are GBC Metals, LLC, of Global Brass and Copper, Inc., dba Olin Brass; Heyco Metals, Inc.; Aurubis Buffalo, Inc.; PMX Industries, Inc.; and Revere Copper Products, Inc.

Rescission of Review

Pursuant to 19 CFR 351.213(d)(1), the Department will rescind an administrative review, in whole or in part, if the party that requested the review withdraws its request within 90 days of the publication of the Initiation Notice. In this case, Petitioners withdrew their request within the 90-day deadline, and no other parties requested an administrative review of the antidumping duty order. Therefore, we are rescinding the administrative review of brass sheet and strip from Italy covering the period March 1, 2012, through February 28, 2013, in its entirety, in accordance with 19 CFR 351.213(d)(1).

Assessment

The Department will instruct U.S. Customs and Border Protection (CBP) to assess antidumping duties on all entries of brass sheet and strip from Italy. Antidumping duties shall be assessed at rates equal to the cash deposit of estimated antidumping duties required at the time of entry, or withdrawal from warehouse, for consumption, in accordance with 19 CFR 351.212(c)(1)(i). The Department intends to issue appropriate assessment instructions to CBP 15 days after the date of publication of this notice of rescission of administrative review.

Notifications

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a violation that is subject to sanction.

This notice is issued and published in accordance with sections 751(a)(1) and 777(i)(1) of the Tariff Act of 1930, as amended, and 19 CFR 351.213(d)(4).

Dated: August 14, 2013.
Christian Marsh,
Deputy Assistant Secretary for Antidumping and Countervailing Duty Operations.

[FR Doc. 2013-20442 Filed 8-21-13; 8:45 am]

BILLING CODE 3510-DS-P